ENVIRONMENTAL PROTECTION AGENCY

[FRL-8580-7]

Notice of Tentative Approval and Solicitation of Request for a Public Hearing for Public Water System Supervision Program Revisions for the State of West Virginia

AGENCY: Environmental Protection Agency (EPA).

ACTION: Notice of Tentative Approval and Solicitation of Requests for a Public Hearing.

SUMMARY: Notice is hereby given that the State of West Virginia is revising their Public Water Supply Supervision (PWSS) program to meet the requirements of Section 1413 of the Safe Drinking Water Act. West Virginia has adopted regulations for the Long Term 2 Enhanced Surface Water Treatment Rule (LT2) to improve public health protection through the control of microbiological contaminants by targeting additional Cryptosporidium treatment requirements to higher risk systems, and for the Stage 2 Disinfection By-Products Rule (Stage 2) to reduce exposure to Disinfection By-Products (DBP) by requiring systems to meet maximum contaminant levels as an average at each compliance monitoring location, rather than as a system-wide average, for two groups of DBPs, trihalomethanes (TTHM) and five haloacetic acids (HAA5).

EPA has determined that these revisions are no less stringent than the corresponding Federal regulations. Therefore, EPA has decided to tentatively approve these program revisions. All interested parties are invited to submit written comments on this determination and may request a public hearing.

DATES: Comments or a request for a public hearing must be submitted by July 17, 2008. This determination shall become effective on July 17, 2008 if no timely and appropriate request for a hearing is received and the Regional Administrator does not elect to hold a hearing on his own motion, and if no comments are received which cause EPA to modify its tentative approval.

ADDRESSES: Comments or a request for a public hearing must be submitted to the U.S. Environmental Protection Agency Region III, 1650 Arch Street, Philadelphia, PA 19103-2029. All documents relating to this determination are available for inspection between the hours of 8:00 a.m. and 4:30 p.m., Monday through Friday, at the following offices:

• Drinking Water Branch, Water Protection Division, U.S. Environmental Protection Agency Region III, 1650 Arch Street, Philadelphia, PA 19103-2029.

• West Virginia Department of Health and Human Resources, Environmental Engineering Division, Capitol and Washington Streets, 1 Davis Square, Suite 200, Charleston, WV 25301-1798.

FOR FURTHER INFORMATION CONTACT: Michelle Moustakas, Drinking Water Branch (3WP21) at the Philadelphia address given above; telephone (215) 814-5741 or fax (215) 814-2318.

SUPPLEMENTARY INFORMATION: All interested parties are invited to submit written comments on this determination and may request a public hearing. All comments will be considered, and, if necessary, EPA will issue a response. Frivolous or insubstantial requests for a hearing may be denied by the Regional Administrator. However, if a substantial request for a public hearing is made by July 17, 2008, a public hearing will be held. A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Dated: June 5, 2008.
Donald S. Welsh,
Regional Administrator, Region III.

[FR Doc. E8-13614 Filed 6-16-08; 8:45 am]

BILLING CODE 6560-50-P